ENVIRONMENTAL PROTECTION AGENCY

[EPA-HQ-OPP-2017-0451; FRL-9966-72]

Disapproval of Pesticide Product Registrations for Special Local Needs

AGENCY: Environmental Protection Agency (EPA).

ACTION: Notice.

SUMMARY: As provided under Section 24(c) of the Federal Insecticide, Fungicide, and Rodenticide Act (FIFRA), State-designated lead agencies may register pesticides, within their respective States, to meet special local needs. EPA's regulations require the State lead agencies to notify EPA of such special local need registrations. EPA may disapprove any such State registration. EPA's regulations require that notice of these actions be published in the Federal Register; this notice identifies special local need registrations which were disapproved by EPA on July 3, 2017.

FOR FURTHER INFORMATION CONTACT: Michael L. Goodis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get copies of this document and other related information?

The docket for this action, identified by docket identification (ID) number EPA-HQ-OPP-2017-0451, is available at http://www.regulations.gov or at the OPP Docket in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

Section 24(c) of FIFRA (7 U.S.C. 136v(c)) authorizes States to register “additional uses of federally registered pesticides to meet special local needs.” Pursuant to FIFRA section 24(c), EPA's regulations at 40 CFR 162.153(h) require States to notify EPA of such special local need registrations. EPA's regulations pertaining to such special local need registrations state that “the Administrator may disapprove, on any reasonable grounds, any state registration which, when compared to a federally registered product, does not have . . . a similar use pattern. . . .” 40 CFR 162.154(a)(1). The regulations define “similar use pattern” to mean “a use of a pesticide . . . which is (among other things) substantially the same as the federally registered use.” 40 CFR 162.151.

III. Disapprovals of Special Local Need Registrations

On July 3, 2017, EPA disapproved special local need registrations from the Nevada Department of Agriculture, for use on cannabis grown in Nevada, to control various insect pests, mites, and plant diseases, as follows:

1. EPA SLN No. NV170003—General Hydroponics Prevasyn (EPA Reg. No. 91865-1); containing Capsicum oleoresin extract, garlic oil, & soybean oil.

2. EPA SLN No. NV170004—General Hydroponics Exile (EPA Reg. No. 91865-2); containing potassium salts of fatty acids.

3. EPA SLN No. NV170005—General Hydroponics Defguard (EPA Reg. No. 91865-3); containing Bacillus amyloliquefaciens strain D747.

4. EPA SLN No. NV170006—General Hydroponics; Azamax (EPA Reg. No. 91865-4); containing azadirachtin.

Additional information may be found in the docket for this action, docket ID number EPA-HQ-OPP-2017-0451, available at http://www.regulations.gov or at the OPP Docket in the Environmental Protection Agency Docket Center. Details on accessing the docket are given in Unit I.B. of this document.

Authority: 7 U.S.C. 136 et seq.

Dated: September 14, 2017.
Michael L. Goodis,
Director, Registration Division, Office of Pesticide Programs.

[FR Doc. 2017-22102 Filed 10-12-17; 8:45 am]

BILLING CODE 6560-50-P